ENVIRONMENTAL PROTECTION AGENCY

40 CFR Parts 52 and 81

[EPA-R10-OAR-2006-0050; FRL-8041-7]

Approval and Promulgation of Air Quality Implementation Plans; La Grande PM10 Maintenance Plan and Redesignation Request

AGENCY: Environmental Protection Agency (EPA).

ACTION: Proposed rule.

SUMMARY: EPA is proposing to approve a PM10 State Implementation Plan (SIP) maintenance plan revision for the La Grande, Oregon nonattainment area and to redesignate the area from nonattattainment to attainment for PM10. PM10 air pollution is suspended particulate matter with a nominal diameter less than or equal to a nominal ten micrometers. EPA is proposing to approve the SIP revision and redesignation request because the State adequately demonstrates that the control measures being implemented in the La Grande area result in maintenance of the PM10 National Ambient Air Quality Standards and all other requirements of the Clean Air Act for redesignation to attainment are met.

DATES: Comments must be received on or before April 21, 2006.

ADDRESSES: Submit your comments, identified by Docket ID No. EPA-R10-OAR-2006-0050, by one of the following methods:

• Federal eRulemaking Portal: http://www.regulations.gov. Follow the on-line instructions for submitting comments.

• Mail: Donna Deneen, Office of Air, Waste and Toxics, AWT-107 EPA, Region 10, 1200 Sixth Ave., Seattle, Washington 98101.

• Hand Delivery: EPA, Region 10 Mail Room, 9th Floor, 1200 Sixth Ave., Seattle, Washington 98101. Attention: Donna Deneen, Office of Air, Waste and Toxics, OAWT-107. Such deliveries are only accepted during normal hours of operation, and special arrangements should be made for deliveries of boxed information.

Please see the direct final rule which is located in the Rules section of this Federal Register for detailed instructions on how to submit comments.

FOR FURTHER INFORMATION CONTACT: Donna Deneen at telephone number: (206) 553-6706, e-mail address: deneen.donna@epa.gov, fax number: (206) 553-0110, or the above EPA, Region 10 address.

SUPPLEMENTARY INFORMATION: For further information, please see the direct final action, of the same title, which is located in the Rules section of this Federal Register. EPA is approving the State's SIP revision as a direct final rule without prior proposal because EPA views this as a noncontroversial SIP revision and anticipates no adverse comments. A detailed rationale for the approval is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: February 24, 2006.
Julie M. Hagensen,
Acting Regional Administrator, Region 10.

[FR Doc. 06-2699 Filed 3-21-06; 8:45 am]

BILLING CODE 6560-50-P